DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Alabama:
Morgan (FEMA Docket No.: B-2204). | Town of Priceville (22-04-1537X). | The Honorable Sam Heflin, Mayor, Town of Priceville, 242 Marco Drive, Priceville, AL 35603. | Planning Department, 242 Marco Drive, Priceville, AL 35603. | Jul. 5, 2022 | 010448
Morgan (FEMA Docket No.: B-2204). | Unincorporated areas of Morgan County (22-04-1537X). | The Honorable Ray Long, Chair, Morgan County Commission, 302 Lee Street Northeast, Decatur, AL 35601. | Morgan County Engineering Department, 580 Shull Road, Hartselle, AL 35640. | Jul. 5, 2022 | 010175
Colorado:
Douglas (FEMA Docket No.: B-2220). | Town of Castle Rock (21-08-1028P). | The Honorable Jason Gray, Mayor, Town of Castle Rock, 100 North Wilcox Street, Castle Rock, CO 80104. | Stormwater Department, 100 North Wilcox Street, Castle Rock, CO 80104. | Jun. 10, 2022 | 080050
Douglas (FEMA Docket No.: B-2220). | Unincorporated areas of Douglas County (21-08-1028P). | The Honorable Lora Thomas, Chair, Douglas County Board of Commissioners, 100 3rd Street, Castle Rock, CO 80104. | Douglas County Department of Public Works, Engineering Division, 100 3rd Street, Castle Rock, CO 80104. | Jun. 10, 2022 | 080049
Jefferson (FEMA Docket No.: B-2220). | Unincorporated areas of Jefferson County (21-08-0517P). | The Honorable Lesley Dahlkemper, Chair, Jefferson County Board of Commissioners, 100 Jefferson County Parkway, Suite 5550, Golden, CO 80419. | Jefferson County Planning and Zoning Division, 100 Jefferson County Parkway, Suite 3550, Golden, CO 80419. | Jun. 10, 2022 | 080087
Florida:
Palm Beach (FEMA Docket No.: B-2226). | City of Westlake (21-04-4443P). | Kenneth Cassel, Manager, City of Westlake, 4001 Seminole Pratt Whitney Road, Westlake, FL 33470. | City Hall, 4001 Seminole Pratt Whitney Road, Westlake, FL 33470. | Jun. 13, 2022 | 120018
Polk (FEMA Docket No.: B-2220). | Unincorporated areas of Polk County (21-04-4272P). | Bill Beasley, Polk County Manager, 330 West Church Street, Bartow, FL 33831. | Polk County Land Development Division, 330 West Church Street, Bartow, FL 33831. | Jun. 9, 2022 | 120261
Sarasota (FEMA Docket No.: B-2220). | City of Sarasota (21-04-5582P). | The Honorable Erik Arroyo, Mayor, City of Sarasota, 1565 1st Street, Room 101, Sarasota, FL 34236. | Development Services Department, 1565 1st Street, Sarasota, FL 34236. | Jun. 10, 2022 | 125150
Volusia (FEMA Docket No.: B-2220). | City of Port Orange (21-04-3762P). | Wayne Clark, Manager, City of Port Orange, 1000 City Center Circle, Port Orange, FL 32129. | Community Development Department, 1000 City Center Circle, Port Orange, FL 32129. | Jun. 10, 2022 | 120313
Volusia (FEMA Docket No.: B-2220). | Unincorporated areas of Volusia County (21-04-3762P). | George Recktenwald, Manager, Volusia County, 123 West Indiana Avenue, DeLand, FL 32720. | Volusia County Growth and Resource Management Department, 123 West Indiana Avenue, DeLand, FL 32720. | Jun. 10, 2022 | 125155
Georgia:
Effingham (FEMA Docket No.: B-2226). | Unincorporated areas of Effingham County (21-04-1542P). | The Honorable Wesley Corbitt, Chair at Large, Effingham County Board of Commissioners, 804 South Laurel Street, Springfield, GA 31329. | Effingham County Administrative Complex South Building, 804 South Laurel Street, Springfield, GA 31329. | Jun. 9, 2022 | 130076
Richmond (FEMA Docket No.: B-2220). | City of Augusta (20-04-6164P). | The Honorable Hardie Davis, Jr., Mayor, City of Augusta, 535 Telfair Street, Suite 200, Augusta, GA 30901. | Planning and Development Department, 535 Telfair Street, Suite 200, Augusta, GA 30901. | Jun. 6, 2022 | 130158
Nevada: Clark (FEMA Docket No.: B-2220). | City of Henderson (21-09-1537P). | Richard Derrick, Manager, City of Henderson, 240 South Water Street, Henderson, NV 89015. | City Hall, 240 South Water Street, Henderson, NV 89015. | Jun. 10, 2022 | 320005
Texas:
Bexar (FEMA Docket No.: B-2226). | City of San Antonio (21-06-0342P). | The Honorable Ron Nirenberg, Mayor, City of San Antonio, P.O. Box 839966, San Antonio, TX 78283. | Transportation and Capitol Improvements Department, Storm Water Division, 114 West Commerce Street, 7th Floor, San Antonio, TX 78205. | Jun. 6, 2022 | 480045
Bexar (FEMA Docket No.: B-2226). | Unincorporated areas of Bexar County (21-06-1869P). | The Honorable Nelson W. Wolff, Bexar County Judge, 101 West Nueva Street, 10th Floor, San Antonio, TX 78205. | Bexar County Public Works Department, 1948 Probandt Street, San Antonio, TX 78214. | Jun. 13, 2022 | 480035
Denton (FEMA Docket No.: B-2216). | Town of Northlake (21-06-1777P). | The Honorable David Rettig, Mayor, Town of Northlake, 1500 Commons Circle, Suite 300, Northlake, TX 76226. | Town Hall, 1500 Commons Circle, Suite 300, Northlake, TX 76226. | Jun. 6, 2022 | 480782
Johnson (FEMA Docket No.: B-2216). | City of Burleson (21-06-2590P). | The Honorable Chris Fletcher, Mayor, City of Burleson, 141 West Renfro Street, Burleson, TX 76028. | City Hall, 141 West Renfro Street, Burleson, TX 76028. | Jun. 2, 2022 | 485459
Kerr (FEMA Docket No.: B-2220). | City of Kerrville (21-06-1566P). | The Honorable Bill Blackburn, Mayor, City of Kerrville, 701 Main Street, Kerrville, TX 78028. | Engineering Department, 200 Sidney Baker Street, Kerrville, TX 78028. | Jun. 3, 2022 | 480420
Kerr (FEMA Docket No.: B-2220). | Unincorporated areas of Kerr County (21-06-1566P). | The Honorable Rob Kelly, Kerr County Judge, 700 East Main Street, Kerrville, TX 78028. | Kerr County Engineering Department, 3766 State Highway 27, Kerrville, TX 78028. | Jun. 3, 2022 | 480419
Parker (FEMA Docket No.: B-2226). | Unincorporated areas of Parker County (21-06-2184P). | The Honorable Patrick Deen, Parker County Judge, 1 Courthouse Square, Weatherford, TX 76086. | Parker County Permitting Department, 1 Courthouse Square, Weatherford, TX 76086. | Jun. 8, 2022 | 480520

[FR Doc. 2022-14763 Filed 7-11-22; 8:45 am]

BILLING CODE 9110-12-P